DEPARTMENT OF TRANSPORTATION

Federal Motor Carrier Safety Administration

[Docket No. FMCSA-2019-0306]

Agency Information Collection Activities; Renewal of a Currently-Approved Information Collection Request: Annual Report of Class I and Class II Motor Carriers of Property

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests approval to renew the previously approved ICR titled, “Annual Report of Class I and Class II Motor Carriers of Property,” OMB Control No. 2126-0032. This ICR is necessary to ensure that motor carriers comply with FMCSA's financial and operating statistics requirements at chapter III of title 49 CFR part 369 titled, “Reports of Motor Carriers.”

DATES: Please send your comments by August 31, 2020. OMB must receive your comments by this date in order to act quickly on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mr. Jeff Secrist, Office of Registration and Safety Information, Department of Transportation, Federal Motor Carrier Safety Administration, West Building 6th Floor, 1200 New Jersey Avenue SE, Washington, DC 20590-0001. Telephone: 202-385-2367; email jeff.secrist@dot.gov. Office hours are from 9 a.m. to 5 p.m., Monday through Friday, except Federal Holidays.

SUPPLEMENTARY INFORMATION: Title: Annual Report of Class I and Class II Motor Carriers of Property.

OMB Control Number: 2126-0032.

Type of Request: Renewal information collection.

Respondents: Class I and Class II For-Hire Motor Carriers of Property and Class I For-Hire Motor Carriers of Passengers.

Estimated Number of Respondents: 43 per year.

Estimated Time per Response: 9 hours for Form M and 0.3 hours for Form MP-1.

Expiration Date: September 30, 2020.

Frequency of Response: Annually.

Estimated Total Annual Burden: 387 hours [387 hours (Form M) + 0 hours (Form MP-1)].

Estimated annual respondents for Form M decreased from 96 in the previously approved ICR to 43 respondents in the proposed ICR. As a result, the estimated annual burden hours for Form M decreased by 477 hours [864 currently approved hours − 387 proposed hours = 477 hours]. For Form MP-1, respondents decreased from 2 in the previously approved ICR to 0 the proposed ICR. As a result, the estimated annual burden hours for Form MP-1 decreased by 1 hour [1 currently approved hour − 0 proposed hours = 1 hour] for Form MP-1. Burden costs to the industry regarding Form M decreased by $20,780 annually, [$38,811 in the currently approved burden cost − $18,031 in the proposed burden cost = $20,780]. Burden costs to the industry regarding form MP-1 have decreased by $59 annually [$59 in the currently approved burden cost − $0 in the proposed burden cost = $59]. For the Federal Government, regarding Form M, the federal burden costs have decreased by $91 annually [$165 in the currently approved federal burden cost − $74 in the proposed burden cost = $91]. Regarding Form MP-1, the federal burden costs have decreased by $2 annually [$2 in the currently approved federal burden cost − $0 in the proposed burden cost = $2].

These lower estimates of annual respondents, hours, respondent costs and federal costs is due to the decreased number of Form M and Form MP-1 submissions received by FMCSA between 2016 and 2018.

Background: Section 14123 of title 49 of the United States Code (U.S.C.) requires certain for-hire motor carriers of property, passengers, and household goods to file annual financial reports. The annual reporting program was implemented on December 24, 1938 (3 FR 3158), and it was subsequently transferred from the Interstate Commerce Commission (ICC) to the U.S. Department of Transportation's (DOT) Bureau of Transportation Statistics (BTS) on January 1, 1996. The Secretary of Transportation delegated to BTS the responsibility for the program on December 17, 1996 (61 FR 68162). Annual financial reports are filed on Form M (Class I and II for-hire property carriers, including household goods carriers) and Form MP-1 (Class I for-hire passenger carriers). Responsibility for collection of the reports was transferred from BTS to FMCSA on August 17, 2004 (69 FR 51009), and the regulations were redesignated as 49 CFR part 369 on August 10, 2006 (71 FR 45740). FMCSA has continued to collect carriers' annual reports and to furnish copies of the reports to the public when requested under the Freedom of Information Act (FOIA). For-hire motor carriers (including interstate and intrastate) subject to the Federal Motor Carrier Safety Regulations are classified on the basis of their gross carrier operating revenues.¹

¹ For purposes of the Financial and Operating Statistics (F&OS) program, carriers are classified into the following three groups: (1) Class I carriers are those having annual carrier operating revenues (including interstate and intrastate) of $10 million or more after applying the revenue deflator formula as set forth in Note A of 49 CFR 369.2; and (2) Class II carriers are those having annual carrier operating revenues (including interstate and intrastate) of at least $3 million, but less than $10 million after applying the revenue deflator formula as set forth in 49 CFR 369.2.

Under the Financial and Operating Statistics (F&OS) program, FMCSA collects from Class I and Class II for-hire motor carriers balance sheet and income statement data along with information on safety needs, tonnage, mileage, employees, transportation equipment, and other related data. FMCSA may also ask carriers to respond to surveys concerning their operations. The data and information collected is available to the public via FOIA requests, and may be used by FMCSA to determine a motor carrier's compliance with the F&OS program requirements prescribed at chapter III of title of 49 CFR part 369. FMCSA has created electronic forms that may be prepared, signed electronically, and submitted to FMCSA via https://ask.fmcsa.dot.gov/app/ask/.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on:
Kenneth Riddle,
Acting Associate Administrator, Office of Research and Registration.

[FR Doc. 2020-16597 Filed 7-30-20; 8:45 am]

BILLING CODE 4910-EX-P